Title 3—

The President

Proclamation 8149 of May 25, 2007

Great Outdoors Month, 2007

By the President of the United States of America

A Proclamation

During Great Outdoors Month, we celebrate the rich blessings of our Nation's natural beauty, and we renew our commitment to protecting our environment so that we can leave our children and grandchildren a healthy and flourishing land. This month is also an opportunity to pay tribute to those whose hard work and dedication keep our country's open spaces beautiful and accessible to our citizens.

Through recreational activities such as fishing, skiing, biking, and nature watching, we can teach our young people about the wonders of our Nation's landscapes. Experiencing our Nation's natural splendor contributes to healthier lives for our citizens and a deeper appreciation for the great outdoors.

My Administration is working to protect and conserve our natural wonders for future generations. To keep our National Park System vibrant, we requested the highest increase ever in park operations funding in the FY 2008 Budget and launched the National Parks Centennial Initiative. We are also promoting responsible stewardship and conservation of our air, water, and land. Harmful air pollutants are down more than 10 percent since 2001, but there is more work to be done. Through the “Twenty in Ten” plan, my Administration aims to limit greenhouse gas emissions from motor vehicles and reduce America's dependence on oil by cutting our gasoline usage by 20 percent over the next 10 years.

In addition, we have restored, improved, or protected millions of acres of wetlands and enhanced our parks and wildlife refuges. We are also encouraging cooperative conservation, innovation, and new technologies to help ensure America's outdoors remain places where families and friends can learn, exercise, and create meaningful memories.

Countless citizens volunteer their time and talents to protect America's natural resources. By working together with the private and non-profit sectors and the general public, we can help preserve our local parks, lakes, rivers, and working lands. I am grateful for the efforts of all those who work to conserve our Nation's natural wonders, and I encourage citizens to visit takepride.gov to learn about more opportunities to help keep our environment healthy and safe.

NOW, THEREFORE, I, GEORGE W. BUSH, President of the United States of America, by virtue of the authority vested in me by the Constitution and laws of the United States, do hereby proclaim June 2007 as Great Outdoors Month. I call on all Americans to observe this month with appropriate programs and activities and to take time to experience and enjoy the outdoors.

IN WITNESS WHEREOF, I have hereunto set my hand this twenty-fifth day of May, in the year of our Lord two thousand seven, and of the Independence of the United States of America the two hundred and thirty-first.

[FR Doc. 07-2716

Filed 5-29-07; 11:05 am]

Billing code 3195-01-P